DEPARTMENT OF AGRICULTURE

Animal and Plant Health Inspection Service

9 CFR Parts 160 and 161

[Docket No. APHIS-2006-0093]

RIN 0579-AC04

National Veterinary Accreditation Program

AGENCY: Animal and Plant Health Inspection Service, USDA.

ACTION: Proposed rule; supplemental.

SUMMARY: We are proposing four changes related to our proposed rule published in the Federal Register on June 1, 2006, that would amend the regulations regarding the National Veterinary Accreditation Program. The June 2006 proposed rule would establish two accreditation categories in place of the current single category, add requirements for supplemental training and renewal of accreditation, and offer accreditation specializations. In this supplemental proposed rule, we are proposing to adjust the scope of the two accreditation categories; to require initial accreditation training for veterinarians seeking accreditation; to require newly accredited veterinarians to renew their accreditation 3 years after completing initial accreditation training; and to reduce the training required for renewal of accreditation from the amount discussed in the June 2006 proposal.

DATES: We will consider all comments that we receive on or before April 30, 2007.

ADDRESSES: You may submit comments by either of the following methods:

• Federal eRulemaking Portal: Go to http://www.regulations.gov, select “Animal and Plant Health Inspection Service” from the agency drop-down menu, then click “Submit.” In the Docket ID column, select APHIS-2006-0093 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0093, Regulatory Analysis and Development, PPD, APHIS, Station 3A-03.8, 4700 River Road Unit 118, Riverdale, MD 20737-1238. Please state that your comment refers to Docket No. APHIS-2006-0093.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Todd Behre, National Veterinary Accreditation Program, VS, APHIS, 4700 River Road Unit 200, Riverdale, MD 20737; (301) 734-0853.

SUPPLEMENTARY INFORMATION:

Background

The regulations in 9 CFR chapter I, subchapter J (parts 160 through 162, referred to below as the regulations), govern the accreditation of veterinarians and the suspension and revocation of such accreditation. These regulations are the foundation for the National Veterinary Accreditation Program (NVAP). Accredited veterinarians are approved by the Administrator of the Animal and Plant Health Inspection Service (APHIS), United States Department of Agriculture (USDA), to perform certain regulatory tasks to control and prevent the spread of animal diseases throughout the United States and internationally.

We published a proposal to amend the regulations in the Federal Register on June 1, 2006 (71 FR 31109-31121, Docket No. APHIS-2006-0093). We proposed to establish two accreditation categories (Category I and Category II) in place of the current single category, to add requirements for supplemental training and renewal of accreditation every 3 years, and to provide for accreditation specializations.

We solicited comments concerning our proposal for 60 days ending July 31, 2006. We received 23 comments by that date. They were from State departments of agriculture, veterinary medical associations, universities, and individual veterinarians.

In the process of considering the comments we received, we identified four changes that we believe would improve the June 2006 proposed rule. We are publishing this supplemental proposed rule to allow an opportunity for public comment on these changes. After evaluating any comments received on this supplemental proposal, we will publish a final rule addressing comments received on both the June 2006 proposed rule and this supplemental proposed rule.

The four changes included in this supplemental proposal are described directly below.

Changing the Scope of Category I and Category II Accreditation

We are proposing to establish two categories of accreditation: Category I and Category II. Under the June 2006 proposal, veterinarians accredited under Category I would have been authorized to perform accredited duties on companion animals. The June 2006 proposal would have defined companion animals as animals commonly kept as pets in family households in the United States. The proposed definition specifically excluded horses, food or fiber animal species, and other livestock or poultry animals. Only Category II veterinarians, who would be required to complete more training than Category I veterinarians, would have been authorized to perform duties on those animals. Category II veterinarians would also have been authorized to perform accredited duties on companion animals.

We received several comments on the June 2006 proposal that asked for clarification regarding various aspects of the scope of duties that Category I and Category II accredited veterinarians would be authorized to perform, as well as comments on what tasks Category I and Category II veterinarians should be able to perform. Two commenters noted that the phrase “commonly kept as pets” in our proposed definition of companion animals appeared to exclude exotic animals and nontraditional pets, such as hedgehogs, falcons, or primates, that are sometimes brought to veterinarians for health certificates; it was not clear which category of veterinarians would have been authorized to perform accredited duties on such species. One commenter asked which category of accreditation would be appropriate for zoo veterinarians. Regarding the tasks Category I and Category II veterinarians would have been required to be able to perform, one commenter recommended that Category I veterinarians be able to develop flock health plans for bird flocks, a task that we had only proposed be required for Category II veterinarians.

These comments have led us to reconsider the division between Category I and Category II. Some species of animals are commonly kept as household pets but are susceptible to diseases that are subject to control or eradication by APHIS. For example, pet birds are susceptible to poultry diseases such as avian influenza and exotic Newcastle disease, and pot-bellied pigs are susceptible to the same diseases as farm-raised swine, such as pseudorabies.

We would want Category II veterinarians to perform accredited duties relating to any food and fiber animal species, horses, farm-raised fish, poultry, and all other livestock. (As defined in the Animal Health Protection Act [7 U.S.C. 8301-8317], “livestock” refers to all farm-raised animals.) We would also want Category II veterinarians to perform accredited duties on birds. These types of animals are susceptible to diseases for which APHIS has regulatory control or eradication programs. Requiring that veterinarians performing accredited duties on those animals be accredited under Category II would ensure that they have the necessary training to recognize symptoms of those diseases and the necessary skills to take appropriate action. For example, as one of the commenters noted, it might be necessary for an accredited veterinarian to develop a flock health plan for a group of pet birds that had been exposed to a poultry disease like avian influenza. Similarly, a veterinarian who performs accredited duties on a pot-bellied pig would need to be able to recognize the clinical signs of pseudorabies and know what to do if the disease is found; the same would apply to any animal from a food or fiber animal species that is kept domestically. Requiring that veterinarians who deal with these species be accredited under Category II would ensure that they could perform the necessary tasks.

In addition, APHIS has a program in which zoo animals that could transmit exotic animal diseases to domestic livestock are kept under postentry quarantine after importation. For ruminants, this program is outlined in § 93.404(c); for swine, this program is outlined in § 93.504(c). Other zoo animals may also present a risk to domestic livestock and may be held at zoos under similar conditions. We would want veterinarians who deal with animals that could transmit exotic animal diseases to domestic livestock to have the additional training and skills required for Category II accreditation. (Category I accreditation would be adequate for veterinarians who did not work with animals that could transmit exotic animal diseases to domestic livestock.)

Therefore, in this supplemental proposal, we are proposing that Category I veterinarians be authorized to perform accredited duties only on animals other than food and fiber animals, horses, farm-raised fish, poultry, all other livestock, birds, and zoo animals that could transmit exotic animal diseases to livestock. We would refer to these animals as nonregulated animals, and add a definition of nonregulated animals in § 160.1.¹ We would not include the definition of companion animals from the June 2006 proposed rule in the regulations. We would replace all the references to companion animals in the June 2006 proposed rule with references to nonregulated animals.

¹ We would consider these animals to be “nonregulated” from the perspective of the veterinary accreditation program, which is concerned with APHIS animal disease regulations. In 9 CFR parts 1, 2, and 3, APHIS has promulgated separate standards and other requirements governing the humane handling, housing, care, treatment, and transportation of animals including dogs, cats, and other animals considered nonregulated under this definition. This change would not affect those regulations.

Our definition of nonregulated animals would also indicate that dogs and cats are examples of nonregulated animals. Under this supplemental proposal, Category I veterinarians would be required to be able to perform the tasks listed in paragraph (g)(1) of proposed § 161.1. The category of animals that are not included in the definition of nonregulated animals is diverse. Veterinarians pursuing accreditation under Category I should at a minimum be able to perform the tasks listed in paragraph (g)(1) of proposed § 161.1 on dogs and cats, the most common types of nonregulated animals. While we recognize that Category I veterinarians may specialize in exotic types of nonregulated animals, we would want veterinarians accredited under Category I to be able to perform the tasks listed in paragraph (g)(1) of proposed § 161.1 on common nonregulated animals as well.

Relating to the tasks listed in paragraph (g)(1) of proposed § 161.1, we note that we would retain the proposed requirement that Category I veterinarians be able to recognize and report clinical signs and lesions of exotic animal diseases that occur in nonregulated animals. Some diseases for which APHIS has a regulatory control or eradication program can be found in almost any species, even though we are pursuing control or eradication of the diseases primarily in livestock or poultry. The screwworm parasite is one example. We would want Category I veterinarians to be able to recognize the screwworm parasite if a nonregulated animal, such as a dog or cat, is affected by it, so they can take the appropriate action.

Under this supplemental proposal, Category II veterinarians would be authorized to perform accredited duties on all animals, both those that are susceptible to diseases for which APHIS does have a regulatory control or eradication program and those that are not. This is unchanged from the June 2006 proposal, which also would have authorized Category II veterinarians to perform accredited duties on all animals.

For the most part, these changes would result in Category I and Category II veterinarians being able to perform the same scope of tasks as they would have under the June 2006 proposed rule. We believe that the division between categories is clearer in this supplemental proposal than it was in the June 2006 proposed rule. Some types of animals would have been considered companion animals on which Category I veterinarians would have been allowed to perform accredited duties under the June 2006 proposed rule, but would now be considered animals on which only Category II veterinarians could perform accredited duties; these would most prominently include pet birds. However, as discussed earlier, we believe it is necessary to require that veterinarians performing accredited duties on livestock, birds, and zoo animals be accredited under Category II.

Requiring Initial Accreditation Training for All Veterinarians Seeking Accreditation

The June 2006 proposal would have allowed veterinarians applying for initial accreditation to choose between Category I and Category II accreditation. Applicants seeking Category II accreditation would have been required to complete five additional supplemental training units in addition to their core orientation before they could become accredited under Category II; applicants for Category I accreditation would simply have had to complete the core orientation.

However, since the publication of the June 2006 proposed rule, we have begun efforts to develop initial accreditation training that would be required to be completed by all veterinarians seeking accreditation. In this supplemental proposal, we would add a requirement that veterinarians seeking accreditation complete initial accreditation training. Veterinarians seeking accreditation under both Categories I and II would have to complete initial accreditation training prior to becoming accredited.

The initial accreditation training would typically be administered in veterinary schools using content developed by APHIS, although we would ensure that it would be available through other venues for veterinarians seeking accreditation who do not graduate from U.S. veterinary schools. The initial accreditation training would supplement the core orientation described in § 161.1(e)(4) of this supplemental proposal, which is conducted by the Veterinarian-in-Charge for the State in which the applicant is applying for accreditation. The initial accreditation training would be designed to ensure that all veterinarians seeking accreditation have a common knowledge base in addition to the program administration and State-specific topics discussed in the core orientation.

As mentioned earlier, the June 2006 proposal would have required that, in addition to the core orientation, veterinarians seeking Category II accreditation complete an additional five units of training prior to accreditation. Because this supplemental proposal would require all veterinarians to complete initial accreditation training, we believe that the previous requirement that Category II veterinarians complete five additional supplemental training units unnecessary. Therefore, we have not included it in this supplemental proposal. Veterinarians who complete initial accreditation training would be able to opt for accreditation under either Category I or Category II, without the additional training requirement.

To accomplish these changes, we propose to revise § 161.1 of the June 2006 proposed rule by adding a new paragraph (b) describing the division between Category I and Category II accreditation and by removing the paragraph in the June 2006 proposed rule that would have required additional training for applicants for initial accreditation under Category II. We would also add a new paragraph § 161.1(e)(3) that would require the initial accreditation training. This supplemental proposal also makes some organizational changes to § 161.1 as it was set out in the June 2006 proposal, to make the order of the regulatory provisions more consistent with the order in which the steps required for initial accreditation would need to be accomplished. These changes can be reviewed in the regulatory text at the end of this document.

Requiring Newly Accredited Veterinarians To Renew Accreditation 3 Years After Completing Initial Accreditation Training

In the June 2006 proposal, we would have required that accredited veterinarians complete training to renew their accreditation every 3 years. We did not specifically state how we would set the dates by which newly accredited veterinarians would have to renew their accreditation. We had intended that newly accredited veterinarians would be required to renew their accreditation 3 years after they were initially accredited.

We proposed to require that veterinarians complete training to renew their accreditation in order to ensure that accredited veterinarians have up-to-date information on disease threats and other important topics involved in performing their duties. For veterinarians seeking initial accreditation, this training would be provided in the initial accreditation training, as we would require in proposed § 161.1(e)(3), and in the core orientation, described in proposed § 161.1(e)(4). Besides completing the initial accreditation training and core orientation, veterinarians seeking accreditation must also have graduated from a college of veterinary medicine and be licensed or legally able to practice veterinary medicine in the State in which the veterinarian wishes to perform accredited duties. After all these requirements are met, a veterinarian may be accredited.

However, some veterinary schools may give the initial accreditation training to their students as much as 18 months before graduation. If we were to set the date by which these newly accredited veterinarians would have to renew their accreditation at 3 years from the date on which they were initially accredited, their initial accreditation training could have occurred as long as 4.5 years ago by the time they renew their accreditation. The intention of our proposed renewal provisions is to require that accredited veterinarians complete additional training every 3 years, to ensure that their training is up to date.

Therefore, in this supplemental proposal, we are proposing to require that newly accredited veterinarians renew their accreditation within 3 years of completing the initial accreditation training in § 161.1(e)(3), regardless of when their accreditation is granted. Other veterinarians would have to renew their accreditation within 3 years of the previous renewal. (We would still plan to handle the initial renewal of accreditation for currently accredited veterinarians according to the procedures in § 161.3(d) of the June 2006 proposed rule.) This change would ensure that newly accredited veterinarians receive up-to-date training when they renew their accreditation.

Reducing the Amount of Training Required for Renewal of Accreditation

We received several comments on the June 2006 proposed rule expressing concern about the amount of training that would have been required for renewal of accreditation. After reviewing our planned training, we agree that essential topics for renewal of accreditation could be covered in fewer units of training than we would have required in the June 2006 proposal. Accordingly, this supplemental proposal reduces the amount of training we would require for renewal of Category II accreditation from nine supplemental training units to six, and the amount of training we would require for the renewal of Category I accreditation from four units to three.

Miscellaneous Changes

The text in proposed § 161.3(b) in the June 2006 proposed rule stated the requirements for renewal of accreditation under an accredited veterinarian's current category, but did not provide information on how to change accreditation categories. This process requires a new application, and the process for changing accreditation categories would be described in proposed § 161.1(f). This supplemental proposal would include a reference to that process in § 161.3(b).

In addition, the June 2006 proposed rule referred to specific form titles and numbers when discussing applying for accreditation and renewal of accreditation. However, we do not believe it is necessary to refer to specific forms in the regulations, and doing so may impede efforts to simplify the application and renewal processes in the future. Therefore, this supplemental proposal does not include any references to specific form titles and numbers.

Executive Order 12866 and Regulatory Flexibility Act

This proposed rule has been reviewed under Executive Order 12866. The rule has been determined to be not significant for the purposes of Executive Order 12866 and, therefore, has not been reviewed by the Office of Management and Budget.

This action supplements a proposed rule published in the Federal Register on June 1, 2006, that proposed to amend the regulations to establish two accreditation categories (Category I and Category II) in place of the current single category, to add requirements for supplemental training and renewal of accreditation every 3 years, and to provide for accreditation specializations. The economic analysis for the June 2006 proposed rule was set forth in that proposed rule. It included a cost-benefit analysis as required by Executive Order 12866 and an analysis of the potential economic effects on small entities as required by the Regulatory Flexibility Act.

This supplemental proposal contains four changes to the June 2006 proposal: Changing the scope of Category I and Category II accreditation; requiring initial accreditation training for veterinarians seeking accreditation; requiring newly accredited veterinarians to renew their accreditation 3 years after completing core orientation; and reducing the amount of training required for renewal of accreditation.

The first change could result in some veterinarians who would have been accredited under Category I under the June 2006 proposal instead being accredited under Category II. This means that the training they would have to complete, and the scope of tasks that they would have to be able to perform, would increase. Specifically, veterinarians accredited under Category II rather than Category I would have to complete six units of supplemental training every 3 years, rather than three units; they would also have to perform the more diverse list of tasks in proposed paragraph (g)(2) of § 161.1, rather than the tasks listed in proposed (g)(1).

However, the marginal cost of the additional training would be expected to be minimal. The majority of the supplemental training would be delivered through the World Wide Web, with no charge to the participating veterinarians. The Internet-based training would eliminate the need for additional costs for travel and accommodations for these veterinarians taking the training. We also anticipate approving some classroom training conducted at the State level, which could then be used to fulfill part of the renewal requirement. Paper copies of training materials would also be available for a printing and mailing fee. Thus, there would be no additional costs associated with being accredited under Category II rather than Category I, except for the time spent completing the additional training.

With regard to performing tasks, most graduates of veterinary school are capable of performing the tasks listed in proposed § 161.1(g)(2); therefore, we would not expect accredited veterinarians to incur any additional expenses to be able to perform them.

Requiring initial accreditation training for veterinarians seeking accreditation, the second change in this supplemental proposal, would not affect the expected training burden for Category II veterinarians, as they would no longer be required to complete five separate supplemental training units. For Category I veterinarians, the initial accreditation training would be an additional time burden. Applicants for accreditation who have already completed their veterinary education, such as veterinarians from other countries, would have to take the initial accreditation training separately, but APHIS would make the training available at no cost.

The third change, requiring newly accredited veterinarians to renew their accreditation 3 years after completing core orientation, would simply shift the training burden for some newly accredited veterinarians, but the amount of training they would be required to complete would remain the same.

The fourth change, reducing the amount of training required for renewal of accreditation, would reduce the time burden on accredited veterinarians and thus the costs associated with maintaining their accreditation.

Impact on Small Entities

The Regulatory Flexibility Act requires that agencies consider the economic effects of their rules on small entities. According to the Small Business Administration's (SBA's) Office of Advocacy, regulations create economic disparities based on size when they have a significant economic impact on a substantial number of small entities.

This supplemental proposed rule and the June 2006 proposal would change a continuing program. Entities that would be affected as a result of the proposed changes in the regulations would be the participating veterinarians who enter into the new NVAP program. Under the North American Industrial Classification System (NAICS), Veterinary Services (NAICS 541940) is included under the Professional, Scientific, and Technical Services subsector.

The veterinary services industry comprises establishments of licensed veterinary practitioners primarily engaged in the practice of veterinary medicine, dentistry, or surgery for animals (i.e., animal hospitals, veterinary clinics, and veterinarians' offices); and establishments primarily engaged in providing testing services for licensed veterinary practitioners (i.e., veterinary testing laboratories). Veterinary services entities that have less than $5 million in annual revenues are considered small according to the SBA's standards.

The number of U.S. veterinary establishments was reported to be 24,510 in 2000; they employed 219,868 people with an annual payroll of $4.82 billion (2000 County Business Patterns, NAICS, U.S. Economic Census 2000).

We do not know how many of these establishments are considered small entities under the SBA's standards. However, the changes in this supplemental proposal would not be expected to have any significant economic effect on any of these 24,510 establishments whether they are small or large, since the vast majority of program costs will be borne by the Agency.

Under these circumstances, the Administrator of the Animal and Plant Health Inspection Service has determined that this action would not have a significant economic impact on a substantial number of small entities.

Paperwork Reduction Act

This action supplements a proposed rule published in the Federal Register on June 1, 2006, that would have necessitated revisions to the Application for Veterinary Accreditation, as well as the introduction of two additional forms: An Application to Perform Accredited Duties in Another State and an Application for Renewal of Accreditation. This supplemental proposal does not affect those requirements or add new requirements that impose a paperwork burden.

This supplemental proposed rule contains no new information collection or recordkeeping requirements under the Paperwork Reduction Act of 1995 (44 U.S.C. 3501 et seq.).

List of Subjects

9 CFR Part 160

Veterinarians.

9 CFR Part 161

Reporting and recordkeeping requirements, Veterinarians.

For the reasons set forth in the preamble, we propose to amend parts 160 and 161 as set out in the proposed rule published on June 1, 2006 (71 FR 31109-31121), as follows:

PART 160—DEFINITION OF TERMS

1. The authority citation for part 160 would continue to read as follows:

Authority: 7 U.S.C. 8301-8317; 15 U.S.C. 1828; 7 CFR 2.22, 2.80, and 371.4.

2. Section 160.1 is amended as follows:

a. By removing the definition of companion animals.

b. By adding, in alphabetical order, a new definition of nonregulated animals to read as set forth below.

§ 160.1 Definitions.

* * * * *

Nonregulated animals. Animals other than food and fiber animals, horses, farm-raised fish, poultry, all other livestock, birds, and zoo animals that could transmit exotic animal diseases to livestock. Examples of nonregulated animals include dogs and cats.

* * * * *

PART 161—REQUIREMENTS AND STANDARDS FOR ACCREDITED VETERINARIANS AND SUSPENSION OR REVOCATION OF SUCH ACCREDITATION

3. The authority citation for part 161 would continue to read as follows:

Authority: 7 U.S.C. 8301-8317; 15 U.S.C. 1828; 7 CFR 2.22, 2.80, and 371.4.

4. In § 161.1, paragraphs (b) through (g) are revised to read as follows, and a new paragraph (h) is added to read as follows:

§ 161.1 Statement of purpose; requirements and application procedures for accreditation.

* * * * *

(b) Categories of accreditation. A veterinarian may be accredited as a Category I veterinarian or a Category II veterinarian. A veterinarian who is accredited under Category I is only authorized to perform accredited duties on nonregulated animals, as defined in § 160.1. A veterinarian who is accredited under Category II is authorized to perform accredited duties on all animals, both regulated and nonregulated.

(c) Application for initial accreditation. A veterinarian may apply for accreditation by completing an application for accreditation and submitting it to the Veterinarian-in-Charge in the State where he or she wishes to perform accredited duties. In completing the application, the veterinarian will choose one of the accreditation activity categories, either Category I or Category II, as discussed in paragraph (b) of this section. Applications for Category I accreditation must include certification that the applicant is able to perform the tasks listed in paragraph (g)(1) of this section. Applications for Category II accreditation must include certification that the applicant is able to perform the tasks listed in paragraph (g)(2) of this section. An accredited veterinarian must not perform duties requiring an accreditation specialization unless he or she is accredited under Category II and qualified to perform such duties in accordance with § 161.5 of this part.

(d) Review of application. Applications for accreditation received by a Veterinarian-in-Charge shall be forwarded to the State Animal Health Official for the State in which the veterinarian wishes to perform accredited duties for approval. Within 14 days after receiving an application, a State Animal Health Official shall either endorse the application or send a written statement to the Administrator explaining why it was not endorsed; but if the State Animal Health Official fails to take one of these actions within 14 days, the Veterinarian-in-Charge shall proceed to review the application. The Administrator will review the application and the written statement, if any, and determine whether the applicant meets the requirements for accreditation contained in this part.

(e) Accreditation requirements. The Administrator is hereby authorized to accredit a veterinarian when he or she determines that:

(1) The veterinarian is a graduate with a Doctorate of Veterinary Medicine or an equivalent degree (any degree that qualifies the holder to be licensed by a State to practice veterinary medicine) from a college of veterinary medicine;

(2) The veterinarian is licensed or legally able to practice veterinary medicine in the State in which the veterinarian wishes to perform accredited duties. APHIS will confirm the licensing status of the applicant by contacting the State board of veterinary medical examiners or any similar State organization that maintains records of veterinarians licensed in a State;

(3) The veterinarian has completed initial accreditation training, using content provided by APHIS; and

(4) The veterinarian has completed an orientation program approved by the Veterinarian-in-Charge for the State in which the veterinarian wishes to practice, and upon completion of the orientation, has signed a written statement listing the date and place of orientation, the subjects covered in the orientation, and any written materials provided to the veterinarian at the orientation. The Veterinarian-in-Charge shall also give the State Animal Health Official an opportunity to review the contents of the orientation, and invite him or her to participate in developing orientation materials and conducting the orientation. The core orientation program shall include the following topics:

(i) Federal animal health laws, regulations, and rules;

(ii) Interstate movement requirements for animals;

(iii) Import and export requirements for animals;

(iv) USDA animal disease eradication and control programs;

(v) Laboratory support in confirming disease diagnoses;

(vi) Ethical and professional responsibilities of an accredited veterinarian;

(vii) Foreign animal disease awareness;

(viii) Animal health emergency management; and

(ix) Animal health procedures, issues, and information resources relevant to the State in which the veterinarian wishes to perform accredited duties.

(f) Change in accreditation category.—(1) Category I to Category II. A veterinarian who is accredited under Category I may become accredited under Category II if the veterinarian applies for accreditation under Category II by completing an application for accreditation, including certification that the applicant is able to perform the tasks listed in paragraph (g)(2) of this section, and submitting it to the Veterinarian-in-Charge in the State where he or she wishes to perform accredited duties. The veterinarian must also have fulfilled the training requirements in § 161.3(b) that are associated with renewal of accreditation under Category II.

(2) Category II to Category I. A veterinarian who is accredited under Category II may become accredited under Category I if the veterinarian applies for accreditation under Category I by completing an application for accreditation, including certification that the applicant is able to perform the tasks listed in paragraph (g)(1) of this section, and submitting it to the Veterinarian-in-Charge in the State where he or she wishes to perform accredited duties. The veterinarian must also have fulfilled the training requirements in § 161.3(b) that are associated with renewal of accreditation under Category I.

(g) Tasks that applicants for accredited status must be able to perform. Applicants for accredited status must be able to:

(1) Category I.

(i) Perform physical examination of individual nonregulated animals to determine whether they are free from any clinical signs suggestive of communicable disease.

(ii) Recognize the common breeds of nonregulated animals and accurately record breed information on official documents.

(iii) Apply common animal identification for nonregulated animals.

(iv) Properly complete certificates for domestic and international movement of nonregulated animals.

(v) Perform necropsies on nonregulated animals.

(vi) Recognize and report clinical signs and lesions of exotic animal diseases that occur in nonregulated animals.

(vii) Vaccinate nonregulated animals and accurately complete the vaccination certificate.

(viii) Properly collect and ship specimen samples to appropriate laboratory for testing with complete and accurate paperwork.

(ix) Develop appropriate biosecurity protocols, as well as cleaning and disinfection protocols, to control communicable disease spread in nonregulated animals.

(2) Category II.

(i) Perform physical examination of individual animals and visually inspect herds or flocks to determine whether the animals are free from any clinical signs suggestive of communicable disease.

(ii) Recognize the common breeds of nonregulated animals, the types of poultry as defined by the National Poultry Improvement Plan in subchapter G of this chapter, and the common breeds of livestock, and be able to accurately record breed information on official documents.

(iii) Recognize all USDA animal identification systems.

(iv) Estimate the age of livestock using a dental formula.

(v) Apply USDA-recognized identification (e.g., eartag, microchip, tattoo) for the USDA animal identification system.

(vi) Certify the health status of a poultry flock regarding diseases of domestic or international regulatory concern, and evaluate records pertaining to flock testing and participation in Federal and State poultry health programs and classifications.

(vii) Properly complete certificates for domestic and international movement of animals.

(viii) Apply and remove official seals.

(ix) Perform necropsies on animals.

(x) Recognize and report clinical signs and lesions of exotic animal diseases.

(xi) Develop a herd or flock health plan.

(xii) Vaccinate for USDA program diseases and accurately complete the vaccination certificate.

(xiii) Properly collect and ship sample specimens to an appropriate laboratory for testing with complete and accurate paperwork.

(xiv) Properly perform testing for tuberculosis (e.g., caudal fold test).

(xv) Develop appropriate biosecurity protocols, as well as cleaning and disinfection protocols, to control communicable disease spread.

(xvi) Explain basic principles for control of diseases for which APHIS or APHIS-State cooperative programs presently exist.

(h) Authorization to perform duties. An accredited veterinarian may not perform accredited duties in a State until after receiving written authorization from APHIS. If a Category I accredited veterinarian completes the necessary training requirements and becomes a Category II accredited veterinarian, the veterinarian may not perform Category II accredited duties in a State until after receiving written authorization from APHIS.

5. In § 161.3, paragraphs (a) and (b) are revised to read as follows:

§ 161.3 Renewal of accreditation.

(a) Accredited veterinarians who wish to continue participating in the National Veterinary Accreditation Program must renew their accreditation every 3 years by completing an application for accreditation renewal and submitting it to APHIS. Newly accredited veterinarians must renew their accreditation within 3 years of completing the initial accreditation training described in § 161.1(e)(3) of this part, regardless of when their accreditation was granted. Other veterinarians must renew their accreditation within 3 years of the previous renewal.

(b) Accredited veterinarians who wish to renew their accreditation under Category I must complete three supplemental training units approved by APHIS by the end of their 3-year tenure as an accredited veterinarian. Accredited veterinarians who wish to renew their accreditation under Category II must complete six supplemental training units approved by APHIS by the end of their 3-year tenure as an accredited veterinarian. Accredited veterinarians who wish to change the category in which they are accredited, rather than renew accreditation in their current accreditation category, should follow the procedure in § 161.1(f) of this part.

* * * * *

Done in Washington, DC, this 20th day of February, 2007.
Kevin Shea,
Acting Administrator, Animal and Plant Health Inspection Service.

[FR Doc. E7-3256 Filed 2-26-07; 8:45 am]

BILLING CODE 3410-34-P